DEPARTMENT OF HEALTH AND HUMAN SERVICES

National Institutes of Health

National Cancer Institute; Cancellation of Meeting

Notice is hereby given of the cancellation of the Frederick National Laboratory Advisory Committee to the National Cancer Institute, February 19, 2020, 1:00 p.m. to February 19, 2020, 5:00 p.m., National Cancer Institute Shady Grove, 9609 Medical Center Drive, TE406, Rockville, MD 20850 which was published in the Federal Register on December 18, 2019, 84 FR 69385.

This meeting is cancelled due to scheduling conflicts and will not be rescheduled.

Dated: January 28, 2020.
Melanie J. Pantoja,
Program Analyst, Office of Federal Advisory Committee Policy.

[FR Doc. 2020-01924 Filed 1-31-20; 8:45 am]

BILLING CODE 4140-01-P